NATIONAL SCIENCE FOUNDATION

Sunshine Act Meetings

The National Science Board (NSB) hereby gives notice of the scheduling of meetings for the transaction of National Science Board business pursuant to the National Science Foundation Act and the Government in the Sunshine Act.

TIME AND DATE: Tuesday, February 11, 2025, from 11:00 a.m.-1:15 p.m. Eastern.

PLACE: The meetings will be held at NSF headquarters, 2415 Eisenhower Avenue, Alexandria, VA 22314, and by videoconference.

STATUS: The meetings will be closed to the public. See the full description below.

MATTERS TO BE CONSIDERED:

Tuesday, February 11, 2025

Plenary Board Meeting

Closed Session: 11:00 a.m.-11:40 a.m.

• Chair's Opening Remarks

• Committee/Commission Reports

○ Committee on Awards and Facilities

○ National Radio Astronomy Observatory Discussion and Vote

○ Context Item: Mid-scale Research Infrastructure Track 1 Portfolio

○ Context Item: National Geophysical Facility Operations and Maintenance award

○ NSB-NSF Commission on Merit Review

○ Overview of Revised Commission Report and Discussion

• Vote to Enter Executive Closed Session

Plenary Board Meeting

Executive Closed Session: 11:45 a.m.-1:15 p.m.

• Chair's Remarks

• 2025 Honorary Awards Discussion, Vote

• Preparing for possible NSB leadership transition, including Status of Board Initiatives

Plenary Meeting Adjourns: 1:15 p.m.

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from the times noticed by more than 15 minutes.

CONTACT PERSON FOR MORE INFORMATION: The NSB Office contact is Christopher Blair, cblair@nsf.gov, 703-292-7000. The NSB Public Affairs contact is Nadine Lymn, nlymn@nsf.gov, 703-292-2490. Please refer to the NSB website for additional information: https://www.nsf.gov/nsb.

Ann E. Bushmiller,
Senior Legal Counsel to the National Science Board.

[FR Doc. 2025-02445 Filed 2-6-25; 11:15 am]

BILLING CODE 7555-01-P